DEPARTMENT OF TRANSPORTATION

Federal Aviation Administration

14 CFR Part 39

[Docket No. 2000-CE-81-AD; Amendment 39-12068; AD 2000-26-18]

RIN 2120-AA64

Airworthiness Directives; Stemme GmbH & Co. KG Models S10 and S10-V Sailplanes

AGENCY: Federal Aviation Administration, DOT.

ACTION: Final rule; request for comments.

SUMMARY: This amendment adopts a new airworthiness directive (AD) that applies to certain Stemme GmbH & Co. KG (Stemme) Models S10 and S10-V sailplanes. This AD requires you to replace the eyebolts on the airbrake, inspect the airbrake sheets for proper clearance and adjust as necessary, and inspect for damage to the landing gear doors and replace any damaged parts. This AD is the result of mandatory continuing airworthiness information (MCAI) issued by the airworthiness authority for Germany. The actions specified by this AD are intended to prevent aerodynamic flutter of the upper covering straps on the airbrake cover caused by the current design airbrake eyebolts, which could result in damage to the airbrake system and landing gear doors. Continued operation with such damaged components could result in loss of control of the sailplane.

DATES: This AD becomes effective on February 2, 2001.

The Director of the Federal Register approved the incorporation by reference of certain publications listed in the regulation as of February 2, 2001.

The Federal Aviation Administration (FAA) must receive any comments on this rule on or before February 15, 2001.

ADDRESSES: Submit comments in triplicate to FAA, Central Region, Office of the Regional Counsel, Attention: Rules Docket No. 2000-CE-81-AD, 901 Locust, Room 506, Kansas City, Missouri 64106.

You may get the service information referenced in this AD from Stemme GmbH & Co. KG, Gustav-Meyer-Allee 25, D-13355 Berlin, Germany; telephone: 49.33.41.31.11.70; facsimile: 49.33.41.31.11.73. You may examine this information at FAA, Central Region, Office of the Regional Counsel, Attention: Rules Docket No. 2000-CE-81-AD, 901 Locust, Room 506, Kansas City, Missouri 64106; or at the Office of the Federal Register, 800 North Capitol Street, NW, suite 700, Washington, DC.

FOR FURTHER INFORMATION CONTACT: Mr. Mike Kiesov, Aerospace Engineer, FAA, Small Airplane Directorate, 901 Locust, Room 301, Kansas City, Missouri 64106; telephone: (816) 329-4144; facsimile: (816) 329-4090.

SUPPLEMENTARY INFORMATION:

Discussion

What Events Have Caused This AD?

The Luftfahrt-Bundesamt (LBA), which is the airworthiness authority for Germany, recently notified FAA that an unsafe condition may exist on certain Stemme Model S10 and S10-V sailplanes. The LBA reports that the current design airbrake eyebolts could cause aerodynamic flutter of the upper airbrake straps at high airspeeds. This can cause damage to the airbrake system.

One reported occurrence resulted in flutter of the upper covering straps on the airbrake cover, which resulted in an uncommanded yawing condition and separation of the landing gear door from the sailplane. This caused damage to the horizontal stabilizer.

What Are the Consequences If the Condition Is Not Corrected?

This condition, if not corrected, could result in aerodynamic flutter of the upper covering straps on the airbrake cover and damage to the airbrake system and landing gear doors. Continued operation with such damaged components could result in loss of control of the sailplane.

Is There Service Information That Applies to This Subject?

Stemme has issued Service Bulletin No. A31-10-055 (pages 5 through 8 English translation), dated October 9, 2000. This service bulletin includes procedures for:

—Replacing the eyebolts on the airbrake;

—Inspecting the airbrake sheets for proper clearance and adjusting, as necessary; and

—inspecting for damage to the landing gear doors and replacing any damaged parts.

What Action Did LBA Take?

The LBA classified this service bulletin as mandatory and issued German AD 2000-369, effective November 30, 2000, in order to assure the continued airworthiness of these sailplanes in Germany.

Was This in Accordance With the Bilateral Airworthiness Agreement?

These sailplane models are manufactured in Germany and are type certificated for operation in the United States under the provisions of § 21.29 of the Federal Aviation Regulations (14 CFR 21.29) and the applicable bilateral airworthiness agreement.

Pursuant to this bilateral airworthiness agreement, LBA has kept FAA informed of the situation described above.

The FAA's Determination and an Explanation of the Provisions of This AD

What Has FAA Decided?

The FAA has examined the findings of LBA; reviewed all available information, including the service information referenced above; and determined that:

—The unsafe condition referenced in this document exists or could develop on other Stemme Models S10 and S10-V sailplanes of the same type design;

—The actions specified in the previously-referenced service information (as specified in this AD) should be accomplished on the affected sailplanes; and

—AD action should be taken in order to correct this unsafe condition.

What Does This AD Require?

This AD requires you to accomplish the actions previously specified in accordance with Stemme Service Bulletin No. A31-10-055 (pages 5 through 8 English translation), dated October 9, 2000.

Will I Have the Opportunity To Comment Prior to the Issuance of the Rule?

Because the unsafe condition described in this document could result in airbrake system failure with possible loss of control of the sailplane, FAA finds that notice and opportunity for public prior comment are impracticable. Therefore, good cause exists for making this amendment effective in less than 30 days.

Comments Invited

How Do I Comment on This AD?

Although this action is in the form of a final rule and was not preceded by notice and opportunity for public comment, we invite your comments on the rule. You may submit whatever written data, views, or arguments you choose. You need to include the rule's docket number and submit your comments in triplicate to the address specified under the caption ADDRESSES. We will consider all comments received on or before the closing date specified above. We may amend this rule in light of comments received. Factual information that supports your ideas and suggestions is extremely helpful in evaluating the effectiveness of the AD action and determining whether we need to take additional rulemaking action.

Are There Any Specific Portions of the AD I Should Pay Attention to?

The FAA specifically invites comments on the overall regulatory, economic, environmental, and energy aspects of the rule that might suggest a need to modify the rule. You may examine all comments we receive before and after the closing date of the rule in the Rules Docket. We will file a report in the Rules Docket that summarizes each FAA contact with the public that concerns the substantive parts of this AD.

We are reviewing the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://­www.plainlanguage.gov.

How Can I Be Sure FAA Receives My Comment?

If you want us to acknowledge the receipt of your comments, you must include a self-addressed, stamped postcard. On the postcard, write “Comments to Docket No. 2000-CE-81-AD.” We will date stamp and mail the postcard back to you.

Regulatory Impact

Does This AD Impact Various Entities?

These regulations will not have a substantial direct effect on the States, on the relationship between the national Government and the States, or on the distribution of power and responsibilities among the various levels of government. Therefore, FAA has determined that this final rule does not have federalism implications under Executive Order 13132.

Does This AD Involve a Significant Rule or Regulatory Action?

The FAA has determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2000-26-18 Stemme GmbH & Co. KG: Amendment 39-12068; Docket No. 2000-CE-81-AD.

(a) What sailplanes are affected by this AD? This AD applies to the following sailplane models and serial numbers that are certificated in any category:

Model | Serial Nos.
S10 | 10-03 through 10-63.
S10-V | 14-002 through 14-030 and 14-012M through 14-063

(b) Who must comply with this AD? Anyone who wishes to operate any of the above sailplanes must comply with this AD.

(c) What problem does this AD address? The actions specified by this AD are intended to prevent aerodynamic flutter of the upper airbrake caused by the current design airbrake eyebolts, which could result in damage to the airbrake system and landing gear doors. Continued operation with such damaged components could result in loss of control of the sailplane.

(d) What must I do to address this problem? To address this problem, you must accomplish the following actions, unless already accomplished since October 9, 2000:

Action | Compliance Time | Procedures
(1) If the sailplane is still equipped with eyebolts (part number 12TI-DB) on the airbrake, replace the eyebolts with improved design eyebolts | Within the next 5 hours time-in-service (TIS) after February 2, 2001 (the effective date of this AD) | In accordance with the procedures in Stemme Service Bulletin No. A31-10-055 (pages 5 through 8 English translation), dated October 9, 2000.
(2) Inspect the airbrake sheets for proper clearance and adjust, as necessary | Accomplish the inspection within the next 5 hours TIS after February 2, 2001 (the effective date of this AD). Accomplish any necessary adjustments prior to further flight after the inspection | In accordance with the procedures in Stemme Service Bulletin No. A31-10-055 (pages 5 through 8 English translation), dated October 9, 2000.
(3) Inspect the landing gear doors for damage and replace any damaged parts | Accomplish the inspection within the next 5 hours TIS after February 2, 2001 (the effective date of this AD). Accomplish any necesary replacements prior to further flight after the inspection | In accordance with the procedures in Stemme Service Bulletin No. A31-10-055 (pages 5 through 8 English translation), dated October 9, 2000.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each sailplane identified in paragraph (a) of this AD, regardless of whether it has been modified, altered, or repaired in the area subject to the requirements of this AD. For sailplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mr. Mike Kiesov, Aerospace Engineer, FAA, Small Airplane Directorate, 901 Locust, Room 301, Kansas City, Missouri 64106; telephone: (816) 329-4144; facsimile: (816) 329-4090.

(g) What if I need to fly the sailplane to another location to comply with this AD? The FAA can issue a special flight permit under §§ 21.197 and 21.199 of the Federal Aviation Regulations (14 CFR 21.197 and 21.199) to operate your sailplane to a location where you can accomplish the requirements of this AD.

(h) Are any service bulletins incorporated into this AD by reference? Actions required by this AD must be done in accordance with Stemme Service Bulletin No. A31-10-055 (pages 5 through 8 English translation), dated October 9, 2000. The Director of the Federal Register approved this incorporation by reference under 5 U.S.C. 552(a) and 1 CFR part 51. You can get copies from Stemme GmbH & Co. KG, Gustav-Meyer-Allee 25, D-13355 Berlin, Germany. You can look at copies at FAA, Central Region, Office of the Regional Counsel, 901 Locust, Room 506, Kansas City, Missouri, or at the Office of the Federal Register, 800 North Capitol Street, NW, suite 700, Washington, DC .

(i) When does this amendment become effective? This amendment becomes effective on February 2, 2001.

Note 2: The subject of this AD is addressed in German AD 2000-369, effective November 30, 2000.

Issued in Kansas City, Missouri, on December 29, 2000.
David R. Showers,
Acting Manager, Small Airplane Directorate, Aircraft Certification Service.

[FR Doc. 01-305 Filed 1-9-01; 8:45 am]

BILLING CODE 4910-13-P